DEPARTMENT OF HEALTH AND HUMAN SERVICES

Centers for Disease Control and Prevention

Disease, Disability, and Injury Prevention and Control Special Emphasis Panel: Workplace Violence Prevention Research.

In accordance with section 10(a)(2) of the Federal Advisory Committee Act (Pub. L. 92-463), the Centers for Disease Control and Prevention (CDC) announces the following teleconference:

Name: Disease, Disability, and Injury Prevention and Control Special Emphasis Panel (SEP): Workplace Violence Prevention Research, Request for Application OH-06-004.

Time and Date: 1 p.m.-5 p.m., May 23, 2006 (Closed).

Place: CDC, National Institute for Occupational Safety and Health (NIOSH), Robert A. Taft Laboratories, 4676 Columbia Parkway, M.S. C-7, Cincinnati, Ohio 45226, telephone (513) 533-8511.

Status: The meeting will be closed to the public in accordance with provisions set forth in section 552b(c)(4) and (6), Title 5 U.S.C., and the Determination of the Director, Management Analysis and Services Office, CDC, pursuant to Public Law 92-463.

Matters to be Discussed: The review, discussion, and evaluation of research grants in workplace violence prevention, Request for Application OH-06-004.

FOR FURTHER INFORMATION CONTACT: Bernadine B. Kuchinski, Scientific Review Administrator, National Institute for Occupational Safety and Health, CDC, 4676 Columbia Parkway, M.S. C-7, Cincinnati, Ohio 45226, telephone (513) 533-8511, e-mail bbk1@cdc.gov.

The Director, Management Analysis and Services Office, has been delegated the authority to sign Federal Register notices pertaining to announcements of meetings and other committee management activities, for both CDC and the Agency for Toxic Substances and Disease Registry.

Dated: April 28, 2006.
Alvin Hall,
Director, Management Analysis and Services Office, Centers for Disease Control and Prevention.

[FR Doc. E6-6793 Filed 5-4-06; 8:45 am]

BILLING CODE 4163-18-P